INTERNATIONAL TRADE COMMISSION

[Investigation No. 332-607]

Nonfat Milk Solids: Competitive Conditions for the United States and Major Foreign Suppliers

AGENCY: United States International Trade Commission.

ACTION: Change in filing deadline for written submissions.

SUMMARY: Due to the lapse in appropriation and ensuing cessation of Commission operations, the Commission has extended the deadline for all other written submissions from October 14, 2025, to fourteen (14) calendar days after the date of publication of this notice.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Rudy Telles Jr. (202-205-2597 or Rodolfo.Telles@usitc.gov) or Deputy Project Leaders Kim Ha (202-205-3343 or Kim.Ha@usitc.gov) and Ivan Lee (202-205-2163 or Ivan.Lee@usitc.gov) for information specific to this investigation. For information on the legal aspects of this investigation, contact Brian Allen (202-205-3034 or Brian.Allen@usitc.gov) of the Commission's Office of the General Counsel. The media should contact Claire Huber, Office of External Relations (202-205-1819 or Claire.Huber@usitc.gov). Hearing-impaired individuals are advised that information on this matter can be obtained by contacting the Commission's TDD terminal on 202-205-1810. General information concerning the Commission may be obtained by accessing its internet address (https://www.usitc.gov). Persons with mobility impairments who will need special assistance in gaining access to the Commission should contact the Office of the Secretary at 202-205-2000.

SUPPLEMENTARY INFORMATION: The Commission published notice of institution of the above referenced investigation in the Federal Register on May 23, 2025 (90 FR 22113, May 23, 2025). Due to the lapse in appropriation and ensuing cessation of Commission operations, the Commission has changed a date announced in that notice. It has extended the deadline for filing all other written submissions from October 14, 2025, to the close of business fourteen (14) calendar days after the date of publication of this notice in the Federal Register. All other dates pertaining to this investigation remain the same as in the notice published in the Federal Register on May 23, 2025.

By order of the Commission.
Issued: December 8, 2025.
Lisa Barton,
Secretary to the Commission.

[FR Doc. 2025-22483 Filed 12-10-25; 8:45 am]

BILLING CODE 7020-02-P